FEDERAL ELECTION COMMISSION

Sunshine Act Meeting; Notices

AGENCY: Federal Election Commission.

Previously Announced Date & Time: Thursday, February 8, 2001, 10:00 a.m., Meeting open to the public.

The following item has been added to the agenda:

Final Audit Report on Michigan Republican State Committee.

* * * * *

DATE & TIME: Tuesday, February 13, 2001 at 10:00 A.M.

PLACE: 999 E Street, N.W., Washington, D.C.

STATUS: This meeting will be closed to the public.

ITEMS TO BE DISCUSSED:

Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

* * * * *

DATE & TIME: Thursday, February 15, 2001 at 10:00 A.M.

PLACE: 999 E Street, N.W., Washington, D.C. (Ninth floor)

STATUS: This meeting will be closed to the public.

ITEMS TO BE DISCUSSED:

Correction and Approval of Minutes.

Advisory Opinion 2001-01: North Carolina Democratic Party by Scott R. Falmlen, Executive Director.

Advisory Opinion 2001-02: Green Party of Kentucky by Alexander D. Moorhead, Treasurer.

Draft 2001 Legislative Recommendations.

Administrative Matters.

PERSON TO CONTACT FOR INFORMATION: Mr. Ron Harris, Press Officer, Telephone (202) 694-1220.

Mary W. Dove,
Acting Secretary of the Commission.

[FR Doc. 01-3350 Filed 2-6-01; 10:32 am]

BILLING CODE 6715-01-M